DEPARTMENT OF THE TREASURY

Office of the Comptroller of the Currency

Agency Information Collection Activities: Information Collection Renewal; Submission for OMB Review; Lending Limits

AGENCY: Office of the Comptroller of the Currency (OCC), Treasury.

ACTION: Notice and request for comment.

SUMMARY: The OCC, as part of its continuing effort to reduce paperwork and respondent burden, invites the public and other Federal agencies to comment on the renewal of an information collection, as required by the Paperwork Reduction Act of 1995 (PRA). In accordance with the requirements of the PRA, the OCC may not conduct or sponsor, and the respondent is not required to respond to, an information collection unless it displays a currently valid Office of Management and Budget (OMB) control number.

The OCC is soliciting comment concerning renewal of its information collection titled, “Lending Limits.” The OCC is also giving notice that it has submitted the collection to OMB for review.

DATES: Comments must be submitted on or before December 23, 2013.

ADDRESSES: Because paper mail in the Washington, DC area and at the OCC is subject to delay, commenters are encouraged to submit comments by email if possible. Comments may be sent to: Legislative and Regulatory Activities Division, Office of the Comptroller of the Currency, Attention: 1557-0317, 400 7th Street SW., Suite 3E-218, Mail Stop 9W-11, Washington, DC 20219. In addition, comments may be sent by fax to (571) 465-4326 or by electronic mail to regs.comments@occ.treas.gov. You may personally inspect and photocopy comments at the OCC, 400 7th Street SW., Washington, DC 20219. For security reasons, the OCC requires that visitors make an appointment to inspect comments. You may do so by calling (202) 649-6700. Upon arrival, visitors will be required to present valid government-issued photo identification and to submit to security screening in order to inspect and photocopy comments.

All comments received, including attachments and other supporting materials, are part of the public record and subject to public disclosure. Do not enclose any information in your comment or supporting materials that you consider confidential or inappropriate for public disclosure.

Additionally, please send a copy of your comments by mail to: OCC Desk Officer, 1557-0317, U.S. Office of Management and Budget, 725 17th Street NW., #10235, Washington, DC 20503, or by email to: oira submission@omb.eop.gov.

FOR FURTHER INFORMATION CONTACT: You may request additional information from Johnny Vilela or Mary H. Gottlieb, OCC Clearance Officers, (202) 649-5490, Legislative and Regulatory Activities Division, Office of the Comptroller of the Currency, 400 7th Street SW., Suite 3E-218, Mail Stop 9W-11, Washington, DC 20219.

SUPPLEMENTARY INFORMATION: The OCC is seeking to renew, without change, the following collection:

Title: Lending Limits—12 CFR 32.9.

Type of Review: Extension, without revision, of a currently approved collection.

OMB Control Number: 1557-0317.

Description: Pursuant to section 610 of the Dodd-Frank Wall Street Reform and Consumer Protection Act of 2010, Public Law 111-203, 124 Stat. 1376 (2010), the OCC added § 32.9 to its lending limits regulation to cover credit exposures arising from derivative transactions and securities financing transactions. Twelve CFR 32.9 provides national banks and savings associations with three alternative methods for calculating the credit exposure of derivative transactions other than credit derivatives, a special rule for measuring the credit exposure of credit derivatives, and three alternative methods for calculating such exposure for securities financing transactions. The OCC provided these different methods in order to reduce the practical burden of such calculations, particularly for smaller and mid-size national banks and savings associations.

One method available for both derivative transactions and securities financing transactions is the Internal Model Method. Under this method, the use of a model (other than a model for which use has been approved for purposes of the Advanced Measurement Approach in the capital rules) must be approved in writing by the OCC (in the case of national banks and Federal savings associations) or the Federal Deposit Insurance Corporation (in the case of State savings associations) specifically for lending limit purposes. If a national bank or savings association proposes to use an internal model for which use has been approved for purposes of the Advanced Measurement Approach, the institution must provide written notification to the OCC or FDIC, as appropriate, prior to use of the model for lending limits purposes. Section 32.9 also requires OCC or FDIC approval of any substantive revisions to a model previously approved for lending limits purposes, or for which notice of its use for lending limits purposes previously had been provided, before the institution may use the revised model.

Affected Public: Businesses or other for-profit.

Burden Estimates: Estimated Number of Respondents: 238.

Estimated Number of Responses per Respondent: 2.

Estimated Annual Burden: 476 hours.

Frequency of Response: On occasion.

Comments: The OCC issued a notice for 60 days of comment concerning the collection. 78 FR 56770 (September 13, 2013). No comments were received. Comments continue to be invited on:

(a) Whether the collection of information is necessary for the proper performance of the functions of the OCC, including whether the information has practical utility;

(b) The accuracy of the OCC's estimate of the information collection burden;

(c) Ways to enhance the quality, utility, and clarity of the information to be collected;

(d) Ways to minimize the burden of the collection on respondents, including through the use of automated collection techniques or other forms of information technology; and

(e) Estimates of the capital or start-up costs and the costs associated with the operation, maintenance, and acquisition of services necessary to provide the required information.

Dated: November 15, 2013.
Stuart E. Feldstein,
Director, Legislative and Regulatory Activities Division.

[FR Doc. 2013-27872 Filed 11-20-13; 8:45 am]

BILLING CODE 4810-33-P